DEPARTMENT OF THE INTERIOR

Bureau of Ocean Energy Management

[OMB Number 1010—New]

Information Collection: Social Indicators in Coastal Alaska: Arctic Communities Survey; Submitted for OMB Review; Comment Request MMAA104000

ACTION: 30-Day notice.

SUMMARY: To comply with the Paperwork Reduction Act of 1995 (PRA), the Bureau of Ocean Energy Management (BOEM) is notifying the public that we have submitted an information collection request (ICR) to the Office of Management and Budget (OMB) for review and approval. The ICR pertains to a new survey to be conducted in northern coastal Alaska communities. This notice provides the public a second opportunity to comment on the paperwork burden of this collection.

DATES: Submit written comments by August 29, 2014.

ADDRESSES: Submit comments on this ICR to the Desk Officer for the Department of the Interior at OMB-OIRA at (202) 395-5806 (fax) or OIRA_submission@omb.eop.gov (email). Please provide a copy of your comments to the BOEM Information Collection Clearance Officer, Arlene Bajusz, Bureau of Ocean Energy Management, 381 Elden Street, HM-3127, Herndon, Virginia 20170 (mail) or arlene.bajusz@boem.gov (email). Please reference ICR 1010-New in your comment and include your name and return address.

FOR FURTHER INFORMATION CONTACT: Arlene Bajusz, Office of Policy, Regulations, and Analysis at arlene.bajusz@boem.gov (email) or (703) 787-1025 (phone). You may review the ICR online at http://www.reginfo.gov. Follow the instructions to review Department of the Interior collections under review by OMB.

SUPPLEMENTARY INFORMATION: OMB Control Number: 1010-New.

Title: Social Indicators in Coastal Alaska: Arctic Communities Survey.

Abstract: This is a new collection that involves a survey of the Alaska coastal area along the Arctic. Section 20 of the Outer Continental Shelf (OCS) Lands Act (OCSLA) requires the Secretary of the Department of the Interior (DOI) to monitor and assess the impacts of resource development activities in Federal waters on human, marine, and coastal environments. The OCSLA authorizes the Secretary of the Interior to conduct studies in areas or regions of lease sales to ascertain the “environmental impacts on the marine and coastal environments of the outer Continental shelf and the coastal areas which may be affected by oil and gas development” (43 U.S.C. 1346) (Pub. L. 95-372).

The National Environmental Policy Act (NEPA) of 1969 (42 U.S.C. 4321-4347) requires that all Federal agencies use a systematic, interdisciplinary approach to ensure the integrated use of the natural and social sciences in any planning and decision making that may have an effect on the human environment. The Council on Environmental Quality's Regulations for Implementing Procedural Provisions of NEPA (40 CFR 1500-1508) state that the “human environment” is to be “interpreted comprehensively” to include “the natural and physical environment and the relationship of people with that environment” (40 CFR 1508.14). An action's “aesthetic, historic, cultural, economic, social or health” effects must be assessed, “whether direct, indirect, or cumulative” (40 CFR 1508.8).

The BOEM is the DOI agency that conducts OCS lease sales and monitors and mitigates adverse impacts that might be associated with offshore resource development. The BOEM Environmental Studies Program implements and manages the responsibilities of research. This new survey will facilitate the meeting of DOI/BOEM information needs by quantifying measures of well-being and the living conditions of residents in coastal Alaska areas, with specific focus on six Iñupiat coastal Alaska Native communities in the North Slope Borough (Barrow, Point Hope, Wainwright, Nuiqsut, Kaktovik, Point Lay).

The BOEM will use the information collected from this survey to learn about local social systems and well-being in a way that may shape development strategies and serve as an interim baseline for impact mitigation and/or monitoring to compare against future research in these areas. With these data, BOEM will improve information to make informed oil and gas leasing and development decisions for these areas. The studies will help BOEM identify and mitigate impacts of offshore oil and gas exploration and development on Alaska Native communities.

Survey Instrument: The survey instrument was developed through collaborative discussions with key community members tasked to serve on the North Slope Management Board, specifically established to deal with this study.

Interview Methods: The interviews will be conducted in person in a setting most comfortable for the respondents. This personal method is more expensive and time consuming for the researchers, but these drawbacks are outweighed by improvements in the quality of information obtained and the rapport established between the surveyor and the person interviewed. Telephone interviews have not proven to be broadly successful in obtaining useful information on the North Slope. Each respondent will be paid an honorarium for taking part in the study. Responses are voluntary.

Frequency: One-time event.

Description of Respondents: Respondents are members of the Alaskan coastal communities in the North Slope Borough. We plan to contact 1,001 individuals and estimate 801 will complete the survey.

Estimated Reporting and Recordkeeping Hour Burden: We estimate 834 hours for this collection.

Activity | Number of responses | Completion time per response | Total annual burden hours
Initial Contact | 1,001 | 2 minutes | 33
Survey | 801 | 1 hour | 801
Total | 1,802 |  | 834

Estimated Reporting and Recordkeeping Non-Hour Cost Burden: We have identified no non-hour paperwork cost burdens for this collection.

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our burden estimates;

• Ways to enhance the quality, utility, and clarity of the information to be collected; and

• Ways to minimize the burden on respondents.

To comply with the public consultation process, on March 14, 2014, BOEM published a Federal Register notice (79 FR 14533) announcing that we would submit this ICR to OMB for approval. This notice provided the required 60-day comment period. We received one comment in response to this notice. The Mayor's Office of the North Slope Borough posed several questions and concerns about aspects of the survey. A summary of each and the response are outlined below. The Social Indicators study has been under construction and planned by the Environmental Studies Program of BOEM for more than 5 years and reported in annual Study Development Plans provided to the North Slope Borough (NSB) for review and comment. It is directly linked to Arctic Social Indicator domain identification undertaken by the Arctic Council and is responsive to the Arctic Research Plan, issued by the Executive Office of the President, National Science and Technology Council in February 2013. BOEM believes this pioneering effort is a way to monitor impacts for oil and gas exploration and development in that the study meets the information needs to identify and monitor broad social changes in the Arctic. We appreciate this opportunity to respond to specific questions raised by the Mayor of the North Slope Borough, Alaska.

Need for the Survey

1. Is this collection a result of the HIA in the EIS?

This survey collection is not a result of the Health Impact Assessment (HIA) in an EIS. The collection is linked to the Arctic Social Indicators Project, an outgrowth of the Arctic Human Development Report of 2004 conducted under the auspices of the Arctic Council's Sustainable Development Working Group (Arctic Social Indicators 2010). HIA involves a more specific set of questions about health status in the communities, whereas the Social Indicators study, designed to assess respondents' sense of well-being, explores six domains, one of which is health.

2. BOEM Should Use the NSB's Baseline Community Health Analysis Report in the Social Indicators and Acknowledge That the Health Environment is Already Impacted by Resource Development

The NSB Baseline Community Health Analysis Report was not completed until June 2012, after the Social Indicators contract was awarded. The designs of both the Baseline Community Health Analysis Report and the Social Indicators survey are complementary because they are derived from the same parent document, the NSB Census of 2010. The Social Indicators survey results will be shared with the NSB. Some of the survey questions will correspond with the NSB Community Health Analysis Report and will support decision making at all levels of government. The 2010 NSB Census includes the same overall health questions that were asked by the Survey of Living Conditions in the Arctic (SLiCA) conducted by Dr. Kruse in collaboration with the NSB in 2003. These same questions were approved by the North Slope Management Board (NSMB) for the BOEM Social Indicators survey. The project report will be the venue to address emerging trends, including if the health environment has been impacted by resource development, not the survey instrument.

Survey Design

3. Who are the members of the NSMB, how were they selected, and how was the survey developed?

The chair and the members of the NSMB are serving on a voluntary basis. Representatives are from the communities of Barrow, Kaktovik, Nuiqsut, Wainwright, Point Lay, and Point Hope. Since the members of the NSMB are volunteers, the BOEM prefers not to disclose their names in this document. As for the survey design, the contractor, Stephen R. Braund & Assoc. (SRBA), held a workshop for the NSMB in Barrow in April 2012 to discuss survey content and design. The Social Indicators survey is based upon a pool of questions derived from previous research conducted in collaboration with the NSB (e.g., SLiCA). The questions correlate directly with domains identified in the Arctic Social Indicators Report, 2010, an outgrowth of the Arctic Human Development Report of 2004 conducted under the auspices of the Arctic Council's Sustainable Working Group, and the BOEM Social Indicators contract. Subsequently, SRBA generated a survey instrument for review by OMB to obtain a control number. SRBA consulted again with the NSMB in September 2012 before the survey instrument was provided to BOEM for the OMB submission. This submission was delayed for a year to perform a Privacy Act Impact Assessment, now completed.

4. Why address only the “head of the household”?

BOEM is concerned about the burden of effort and therefore limits the survey to heads of households (HH), as the HH is the individual with the knowledge and authority to address all of the questions asked. The HH may be an adult male or female of any age over 18. This is the standard best practice among social scientists conducting surveys, including Dr. Gary Kofinas's “The Study of Sharing Networks to Assess the Vulnerabilities of Local Communities to Oil & Gas Development in Arctic Alaska,” also funded by BOEM.

5. It is Important To Have a Variety of People From the North Slope Involved in Helping To Pick the Contractor/Review the Survey Questions

A variety of individuals from each North Slope coastal community and the Alaska Eskimo Whaling Commission were involved in selecting the survey questions. BOEM selected the contractor through a competitive bidding process based on the merits of the technical proposal and expertise of the contractor.

6. Survey Fatigue: Suggest BOEM Coordinate With the Other Agencies/Industry.

BOEM and its project contractors are highly concerned about survey fatigue and the importance of coordinating with others who conduct research among the Iñupiat of the North Slope. BOEM has coordinated with other entities doing research. However, BOEM has found that even though there are surveys that may ask a similar question, none fully address the sense of well-being as this Social Indicators survey is designed to assess. BOEM and SRBA are leaders in the field of social research and well understand and are sensitive to the problems of public burden and survey fatigue. Once BOEM receives OMB approval, BOEM and SRBA will coordinate with local and regional authorities to schedule the Social Indicators survey implementation.

In this notice, BOEM is also responding to a comment received on a Federal Register notice (78 FR 25473) published May 1, 2013, requesting public comment on a survey renewal collection (1010-0184) that we have since discontinued. In that notice, we introduced this new Social Indicators survey and received a comment; therefore, we are addressing that comment in this new collection now.

The commenter suggested the use of Dillman's Tailored Design Method as being a superior alternative to random sampling. BOEM agrees with the Dillman strategy and has used similar elements in designing our face-to-face surveys. Dillman's strategies target improving response rates for mail, telephone, and internet surveys, which can have response rates lower than 50 percent. In contrast, prior experience in applying the proposed sample design and face-to-face interviews in northern Alaska has shown response rates above 80 percent. Several opportunities of advance survey notice have been achieved through the NSMB participation in the survey design process. Upon OMB approval, the design team will work with the NSMB to extend community involvement to the city councils, tribal governments, and village corporations. In addition, Dillman's approach concerns how the interview process is designed, not how people are sampled from the population to be described. The sampling approach used in our surveys is termed “area probability sampling,” developed by the Institute for Social Research, University of Michigan, to meet the statistical goals of producing valid estimates and confidence intervals. A probability sample means that each person/household in the population to be sampled has a known probability of being selected. A probability sample is commonly referred to as a “random sample.” In accordance with Dillman's approach, BOEM incorporates specific procedures to maintain the validity of the probability sample by making repeated contacts to interview the selected respondent. We also train interviewers to build trust and engagement in the study and engage community leaders and secure their approval. The addition of a remuneration provides additional incentive for participation.

Public Availability of Comments: Before including your address, phone number, email address, or other personal identifying information in your comment, you should be aware that your entire comment—including your personal identifying information—may be made publicly available at any time. While you can ask us in your comment to withhold your personal identifying information from public review, we cannot guarantee that we will be able to do so.

Dated: July 3, 2014.
Deanna Meyer-Pietruszka,
Chief, Office of Policy, Regulations, and Analysis.

[FR Doc. 2014-17929 Filed 7-29-14; 8:45 am]

BILLING CODE 4310-MR-P